POSTAL REGULATORY COMMISSION

[Docket No. C2024-21; Order No. 7884]

Complaint Proceeding

AGENCY: Postal Regulatory Commission.

ACTION: Notice.

SUMMARY: The Commission is acknowledging a document opening a proceeding to consider issues related to the classification of Catherine Commons as a dormitory or residence hall. This document takes other administrative steps.

ADDRESSES: Documents are available electronically via the Commission's Filing Online system at https://www.prc.gov.

SUPPLEMENTARY INFORMATION:

Table of Contents

I. Background

II. Ordering Paragraphs

I. Background

Complainants and their affiliates own and operate Catherine Commons, a newly developed four-building complex located in Ithaca, New York. Complainants assert that the Postal Service has unduly or unreasonably discriminated against Catherine Commons in violation of 39 U.S.C. 403(c) by misclassifying it as a dormitory rather than an apartment community. Classification as a dormitory allows the Postal Service to deliver mail in bulk rather than to apartment-type mailboxes, and places responsibility on the building owner for final delivery of mail. Pursuant to 39 U.S.C. 3662(b), the Commission concludes that Complainants have made sufficient allegations that there may be no rational or legitimate basis for classifying Catherine Commons as a dormitory or residence hall and that there are outstanding issues of fact to resolve whether the Postal Service has violated 39 U.S.C. 403(c). The Order grants the Postal Service's Motion to Dismiss on all remaining substantive grounds.¹

¹ See United States Postal Service Motion to Dismiss, September 17, 2024 (Motion to Dismiss).

The Commission appoints a presiding officer to preside over the conduct of the proceedings, including scheduling, discovery, potential hearings, and briefing in this matter. The Commission finds good cause to waive the appointment of an officer of the Commission designated to represent the interests of the general public in this proceeding as required by 39 CFR 3022.30(c) because the violations alleged in the Complaint pertain solely to Complainants, who are represented by counsel, rather than the general public.

II. Ordering Paragraphs

It is ordered:

1. The Commission finds that the Complaint of Cook-Coll, LLC and Coll-Cath Associates, LLC, filed August 28, 2024, raises material issues of fact.

2. The United States Postal Service's Motion to Dismiss the Complaint of Cook-Coll, LLC and Coll-Cath Associates, LLC, filed September 17, 2024, is denied on the grounds that the Complaint of Cook-Coll, LLC and Coll-Cath Associates, LLC, filed August 28, 2024, failed to include the certification required by 39 CFR 3022.10(a)(9).

3. The United States Postal Service's Motion to Dismiss the Complaint of Cook-Coll, LLC and Coll-Cath Associates, LLC, filed September 17, 2024, is granted on all remaining grounds except for the claim related to the alleged violation of 39 U.S.C. 403(c).

4. Pursuant to 39 CFR 3010.106, the Commission appoints Laura K. Koepnick as a presiding officer in this proceeding.

5. The Secretary shall arrange for publication of this Order, or abstract thereof, in the Federal Register.

By the Commission.
Erica A. Barker,
Secretary.

[FR Doc. 2024-25997 Filed 11-7-24; 8:45 am]

BILLING CODE P